DEPARTMENT OF ENERGY

Federal Energy Regulatory Commission

[Docket No. RP03-460-000]

Northern Natural Gas Company; Notice of Proposed Changes in FERC Gas Tariff

May 6, 2003.

Take notice that on May 1, 2003, Northern Natural Gas Company (Northern) tendered for filing to become part of its FERC Gas Tariff, Fifth Revised Volume No. 1, and Original Volume No. 1, the following tariff sheets to be effective June 1, 2003:

Fifth Revised Volume No. 1

Sixty-Fourth Revised Sheet No. 50

Sixty-Fifth Revised Sheet No. 51

Thirtieth Revised Sheet No. 52

Sixty-Third Revised Sheet No. 53

Twenty-First Revised Sheet No. 59

Fifth Revised Sheet No. 59A

Twenty-Fourth Revised Sheet No. 60

Fifth Revised Sheet No. 60A

Original Volume No. 1

170 Revised Sheet No. 1C

Northern states that it is filing to adjust its rates effective June 1 to reflect the rate impact of the return and tax components associated with the System Levelized Account (SLA) balance as of March 31, 2003.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 13, 2003.

Magalie R. Salas,
Secretary.

[FR Doc. 03-11803 Filed 5-12-03; 8:45 am]

BILLING CODE 6717-01-P